DEPARTMENT OF ENERGY

Federal Energy Regulatory Commission

Combined Notice of Filings #1

July 20, 2010.

Take notice that the Commission received the following electric corporate filings:

Docket Numbers: EC10-82-000.

Applicants: E. I. du Pont de Nemours and Company.

Description: Section 203 Application of E. I. du Pont de Nemours and Company.

Filed Date: 07/19/2010.

Accession Number: 20100719-5127.

Comment Date: 5 p.m. Eastern Time on Monday, August 09, 2010.

Take notice that the Commission received the following electric rate filings:

Docket Numbers: ER10-1461-001.

Applicants: Public Service Company of New Mexico.

Description: Public Service Co of New Mexico submits a non-conforming Transmission Service Agreement with Third Planet Windpower, LLC.

Filed Date: 07/19/2010.

Accession Number: 20100719-0208.

Comment Date: 5 p.m. Eastern Time on Monday, August 09, 2010.

Docket Numbers: ER10-1505-001.

Applicants: Public Service Company of New Mexico.

Description: Public Service Co of New Mexico submits a non-conforming Transmission Service Agreement with NextEra Energy Resources LLC.

Filed Date: 07/19/2010.

Accession Number: 20100719-0209.

Comment Date: 5 p.m. Eastern Time on Monday, August 09, 2010.

Docket Numbers: ER10-1728-001.

Applicants: The Dayton Power and Light Company.

Description: The Dayton Power and Light Company submits tariff filing per 35: FERC Electric Tariff, First Revised Volume 10 to be effective 7/20/2010.

Filed Date: 07/20/2010.

Accession Number: 20100720-5038.

Comment Date: 5 p.m. Eastern Time on Tuesday, August 10, 2010.

Docket Numbers: ER10-1802-000.

Applicants: Dominion Energy Manchester Street, Inc.

Description: Dominion Energy Manchester Street, Inc. submits tariff filing per 35.12: Baseline to be effective 7/19/2010.

Filed Date: 07/19/2010.

Accession Number: 20100719-5070.

Comment Date: 5 p.m. Eastern Time on Monday, August 09, 2010.

Docket Numbers: ER10-1803-000.

Applicants: New York State Electric & Gas Corporation.

Description: New York State Electric & Gas Corp submits a supplement to Rate Schedule FERC No. 72.

Filed Date: 07/19/2010.

Accession Number: 20100719-0207.

Comment Date: 5 p.m. Eastern Time on Monday, August 09, 2010.

Docket Numbers: ER10-1804-000.

Applicants: New York State Electric & Gas Corporation.

Description: New York State Electric & Gas Corporation submits supplement to Rate Schedule FERC 117-Facilities Agreement.

Filed Date: 07/19/2010.

Accession Number: 20100719-0210.

Comment Date: 5 p.m. Eastern Time on Monday, August 09, 2010.

Docket Numbers: ER10-1806-000.

Applicants: AP Holdings, LCC.

Description: AP Holdings, LLC submits Petition for Approval of Initial Market-Based Rate Tariff and Certain Blanket Authority and Waivers, and Request for Expedited Consideration etc.

Filed Date: 07/19/2010.

Accession Number: 20100719-0213.

Comment Date: 5 p.m. Eastern Time on Monday, August 09, 2010.

Docket Numbers: ER10-1807-000.

Applicants: Spark Energy, L.P.

Description: Application of Spark Energy, LP Market-Based Rate Authorization and Granting of Waivers and Blanket Authorizations.

Filed Date: 07/19/2010.

Accession Number: 20100719-0212.

Comment Date: 5 p.m. Eastern Time on Monday, August 09, 2010.

Docket Numbers: ER10-1808-000.

Applicants: Western Massachusetts Electric Company.

Description: Western Massachusetts Electric Company submits tariff filing per 35.12: WMECO Baseline Filing of Market-Based Tariff Under Order No. 714 to be effective 7/19/2010.

Filed Date: 07/19/2010.

Accession Number: 20100719-5099.

Comment Date: 5 p.m. Eastern Time on Monday, August 09, 2010.

Docket Numbers: ER10-1809-000.

Applicants: RED-Scotia, LLC.

Description: RED-Scotia, LLC submits tariff filing per 35.12: Application of Red-Scotia, LLC For Market-Based Rate Authority to be effective 7/19/2010.

Filed Date: 07/19/2010.

Accession Number: 20100719-5106.

Comment Date: 5 p.m. Eastern Time on Monday, August 09, 2010.

Docket Numbers: ER10-1810-000.

Applicants: E. I. du Pont de Nemours and Company.

Description: E. I. du Pont de Nemours and Company submits tariff filing per 35.12: E.I. du Pont de Nemours and Company MBR Tariff Application to be effective 9/30/2010.

Filed Date: 07/19/2010.

Accession Number: 20100719-5110.

Comment Date: 5 p.m. Eastern Time on Monday, August 09, 2010.

Docket Numbers: ER10-1811-000.

Applicants: Select Energy, Inc.

Description: Select Energy, Inc. submits tariff filing per 35.12: Select Energy, Inc., Baseline Filing of Market-Based Tariff Under Order No. 714 to be effective 7/20/2010.

Filed Date: 07/20/2010.

Accession Number: 20100720-5002.

Comment Date: 5 p.m. Eastern Time on Tuesday, August 10, 2010.

Docket Numbers: ER10-1812-000.

Applicants: Southwest Power Pool Inc.

Description: Southwest Power Pool, Inc. submits executed Meter Agent Services Agreement between Tenaska Power Service Co and Southwestern Public Service Company, effective 4/1/10.

Filed Date: 07/19/2010.

Accession Number: 20100720-0203.

Comment Date: 5 p.m. Eastern Time on Monday, August 09, 2010.

Docket Numbers: ER10-1813-000.

Applicants: PJM Interconnection L.L.C.

Description: PJM Interconnection, LLC submits executed Interconnection Service Agreement et al between PJM, Pennsylvania Department of Correction, et al.

Filed Date: 07/19/2010.

Accession Number: 20100720-0204.

Comment Date: 5 p.m. Eastern Time on Monday, August 09, 2010.

Docket Numbers: ER10-1814-000.

Applicants: Midwest Independent System Operator, Inc.

Description: Midwest Independent Transmission System Operator, Inc submits executed Generator Interconnection Agreement.

Filed Date: 07/19/2010.

Accession Number: 20100720-0201.

Comment Date: 5 p.m. Eastern Time on Monday, August 09, 2010.

Docket Numbers: ER10-1815-000.

Applicants: California Independent System Operator Corporation.

Description: California Independent System Operator Corporation submits tariff filing per 35.13(a)(2)(iii): 2010-07-20 CAISO Alternative Dispute Resolution Amendment to be effective 9/19/2010.

Filed Date: 07/20/2010.

Accession Number: 20100720-5046.

Comment Date: 5 p.m. Eastern Time on Tuesday, August 10, 2010.

Docket Numbers: ER10-1816-000.

Applicants: The Dayton Power and Light Company.

Description: The Dayton Power and Light Company submits tariff filing per 35.12: FERC Rate Schedule No. 42 to be effective 7/20/2010.

Filed Date: 07/20/2010.

Accession Number: 20100720-5063.

Comment Date: 5 p.m. Eastern Time on Tuesday, August 10, 2010.

Docket Numbers: ER10-1817-000.

Applicants: Southwestern Public Service Company.

Description: Southwestern Public Service Company submits tariff filing per 35: 20100720_Baseline Filing to be effective 7/20/2010.

Filed Date: 07/20/2010.

Accession Number: 20100720-5082.

Comment Date: 5 p.m. Eastern Time on Tuesday, August 10, 2010.

Docket Numbers: ER10-1818-000.

Applicants: Public Service Company of Colorado.

Description: Public Service Company of Colorado submits tariff filing per 35: 20100720_Baseline Filing to be effective 7/20/2010.

Filed Date: 07/20/2010.

Accession Number: 20100720-5084.

Comment Date: 5 p.m. Eastern Time on Tuesday, August 10, 2010.

Take notice that the Commission received the following open access transmission tariff filings:

Docket Numbers: OA08-34-004.

Applicants: Public Service Company of New Mexico.

Description: Public Service Co. of New Mexico submits a Notification Filing pursuant to Order 890.

Filed Date: 07/19/2010.

Accession Number: 20100719-0211.

Comment Date: 5 p.m. Eastern Time on Monday, August 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-18602 Filed 7-28-10; 8:45 am]

BILLING CODE 6717-01-P